DEPARTMENT OF LABOR

Bureau of Labor Statistics

Data Users Advisory Committee; Notice of Meeting and Agenda

The Bureau of Labor Statistics Data Users Advisory Committee will meet on Thursday November 8, 2012. The meeting will be held in the Postal Square Building, 2 Massachusetts Avenue NE., Washington, DC.

The Committee provides advice to the Bureau of Labor Statistics from the points of view of data users from various sectors of the U.S. economy, including the labor, business, research, academic, and government communities, on technical matters related to the collection, analysis, dissemination, and use of the Bureau's statistics, on its published reports, and on the broader aspects of its overall mission and function.

The meeting will be held in Meeting Rooms 1, 2, and 3 of the Postal Square Building Conference Center. The schedule and agenda for the meeting are as follows:

8:30 a.m.—Registration

8:45 a.m.—Introductions, welcome, and brief review of agency developments

9:15 a.m.—Misunderstood statistics: Helping Users understand the limitations of BLS data

10:30 a.m.—Errors and errata—How best to present to the public

1:00 p.m.—Documenting BLS methodology—How best to present to the public

2 p.m.—Disclosure limitation—is noise better than nothing?

3:15 p.m.—Previewing Data Finder: a new LABSTAT data query tool

4:15 p.m.—Meeting wrap-up

The meeting is open to the public. Any questions concerning the meeting should be directed to Kathy Mele, Data Users Advisory Committee, on 202.691.6102. Individuals who require special accommodations should contact Ms. Mele at least two days prior to the meeting date.

Signed at Washington, DC, this 26th day of September, 2012.
Kimberley D. Hill,
Chief, Division of Management Systems, Bureau of Labor Statistics.

[FR Doc. 2012-24083 Filed 9-28-12; 8:45 am]

BILLING CODE P